DEPARTMENT OF COMMERCE

National Oceanic and Atmospheric Administration

RIN 0648-XH15

Notice of Availability of a Draft Environmental Impact Statement and Habitat Conservation Plan

AGENCY: National Marine Fisheries Service (NMFS), National Oceanic and Atmospheric Administration (NOAA), Commerce

ACTION: Notice; availability of documents for public comment and public hearings.

SUMMARY: This notice announces the availability of the Draft Environmental Impact Statement (DEIS) and draft habitat conservation plan (HCP) for public review and comment. The City of Portland (City) has submitted an application to the National Marine Fisheries Service (NMFS) for an incidental take permit under section 10 of the Endangered Species Act (ESA) of 1973 as amended. The HCP also serves as the basis of an application to NMFS that they take steps under the ESA to limit the application of the prohibition against take of listed salmon and steelhead so that it does not apply to the continued operation and maintenance of the Bull Run water supply system.

DATES: Written comments on the draft HCP, Implementation Agreement and DEIS will be accepted for a period of 60 days, ending at 5 p.m. Pacific Time on May 27, 2008. Written comments may be sent by mail, facsimile, or e-mail to the addresses listed below.

ADDRESSES: Please address written comments to Nancy Munn, National Marine Fisheries Service, 1201 NE Lloyd Blvd, Suite 1100, Portland, Oregon 97232, facsimile (503) 231-6893. Please send e-mail comments to: BullRunHCP.nwr@noaa.gov.

FOR FURTHER INFORMATION CONTACT: For further information, or to receive the documents on CD ROM, please contact Nancy Munn, Project Manager, National Marine Fisheries Service, (503) 231-6269.

SUPPLEMENTARY INFORMATION: The documents being made available include: (1) the proposed habitat conservation plan; (2) the proposed Implementing Agreement; and (3) the draft environmental impact statement (DEIS). This notice is provided pursuant to the ESA and the National Environmental Policy Act (NEPA) of 1969, as amended. The NMFS is furnishing this notice to allow other agencies and the public an opportunity to review and comment on these documents. All comments received will become part of the public record for this action. Hard bound copies of the conservation plan, Implementation Agreement, and DEIS are available for viewing, or partial or complete duplication, at all Oregon State libraries and the main Multnomah County Library in Portland, Oregon.

Background

Section 9 of the ESA and Federal regulations prohibit the unauthorized “taking” of a species listed as endangered or threatened. The term take is defined under the ESA to mean harass, harm, pursue, hunt, shoot, wound, kill, trap, capture, or collect, or to attempt to engage in any such conduct. Harm is defined to include significant habitat modification or degradation where it actually kills or injures wildlife by significantly impairing essential behavioral patterns, including breeding, feeding, and sheltering (50 CFR 17.3, 50 CFR 222.102). NMFS further defines harm to include significant habitat modification or degradation where it actually kills or injures fish or wildlife by significantly impairing essential behavioral patterns, including breeding, feeding, spawning, migrating, rearing, and sheltering (64 FR 60727). The NMFS may issue incidental take permits, under section 10(a)(1)(B) of the ESA, to take listed species incidental to, and not the purpose of, otherwise lawful activities. NMFS regulations governing permits for federally endangered and threatened species are promulgated under 50 CFR 222.307. NMFS also may issue a rule under section 4(d) of the ESA, providing for the conservation of threatened species while authorizing incidental take under certain conditions. The Bull Run watershed has been used by the City for water supply since 1895. The City's water system provides water to residents and businesses within the City as well as to a number of surrounding communities. As a result of the listing of several salmon and steelhead species in Oregon State in the mid to late 1990s, the City was concerned about compliance with the ESA and other Federal regulations, and water supply reliability and affordability. The presence and operation of the water system infrastructure creates impacts on habitat for several species of listed fish because of changes in river flow, river temperature, and aquatic and riparian habitat. The City's conservation plan includes 49 habitat conservation measures to protect and improve water quality and habitat for aquatic species within the boundaries of the Sandy River Basin.

The City has applied to: (1) obtain an incidental take permit, pursuant to section 10(a)(1)(B) of the ESA for endangered, threatened and covered species; and, (2) request from the NMFS a limitation on the application of the prohibition against take, pursuant to section 4(d) of the ESA for identified threatened species only, for activities associated with the continued operation and maintenance of the Bull Run water supply system. The activities associated with the continued operation and maintenance of the Bull Run water supply system are described in the draft HCP and Implementing Agreement and serve as documentation that the conservation plan meets the requirements of section 4(d) as well as section 10. Each of these activities is represented as an alternative in the DEIS. Activities proposed for coverage under the incidental take permits or for a limitation on the application of the prohibition against take include the following: (1) operation, maintenance, and repair of the water system; (2) implementation of habitat conservation, research, and monitoring measures; and (3) incidental land management activities. The proposed incidental take permits would authorize the take of the following federally threatened species incidental to otherwise lawful activities: Lower Columbia River chinook salmon (Oncorhynchus shawytscha), Lower Columbia River steelhead (O. mykiss), Lower Columbia River coho salmon (O. keta), and Columbia River chum salmon (O. keta).

The draft HCP also includes conservation measures and effects analyses for 18 fish and wildlife species under the jurisdiction of the U.S. Fish and Wildlife Service. The species included are those most likely to be affected by water system operations and/or benefited by measures designed for the anadromous fish.

The proposed duration of the incidental take permit and conservation plan would be 50 years, though many aspects of the plan's conservation strategy are intended to benefit aquatic species and their habitat long into the future. The NMFS formally initiated an environmental review of the project through publication of a Notice of Intent to prepare an Environmental Impact Statement in the Federal Register on March 27, 2006 (71 FR 15168). That document also announced a public scoping period during which interested parties were invited to provide written comments expressing their issues or concerns relating to the proposal and to attend one of two public scoping meetings held in Portland, Oregon. Based on public scoping comments, NMFS has prepared a DEIS to analyze the effects of alternatives on the human environment. Implementation of the City's conservation plan, including issuance of the associated incidental take permits from NMFS for threatened species is Alternative 2 in the DEIS. Three other alternatives are analyzed in the DEIS including: Alternative 1, no action, in that the incidental take permit would not be issued to the City; and Alternative 3, providing fish passage facilities at the two dams on the Bull Run River.

This document is provided pursuant to the ESA and NEPA regulations. NMFS will evaluate the application, associated documents, and comments submitted thereon to determine whether the applications meet the requirements of the ESA and NEPA. The NMFS will revise the DEIS in a Final Environmental Impact Statement. The NMFS' decisions whether to issue an incidental take permit or limits on the application of the prohibition against take will be made upon completion of the Endangered Species Act determinations and Final Environmental Impact Statement and associated Record of Decision.

Public Meetings

The NMFS has scheduled two public meetings to receive comments from the public concerning the DEIS and draft HCP. (1) Monday April 28, 2008, 5:30 p.m. to 8:30 p.m., East Portland Community Center, Multipurpose Room 1, 740 SE 106th Ave, Portland, Oregon(2) Tuesday, April 29, 2008, 5:30 p.m. to 8:30 p.m., Lovejoy Room, Portland City Hall, 1221 SW 4th Ave., Portland, Oregon.

Special Accommodations

These meetings are physically accessible to people with disabilities. Requests for sign language interpretation or other auxiliary aids should be directed to Nancy Munn, (503) 231-6893 at least 5 working days prior to the meeting date.

Dated: April 7, 2008.
Angela Somma,
Chief, Endangered Species Division, Office of Protected Resources, National Marine Fisheries Service.

[FR Doc. E8-7821 Filed 4-10-08; 8:45 am]

BILLING CODE 3510-22-S